DEPARTMENT OF COMMERCE

National Oceanic and Atmospheric Administration

Establishing an Advisory Council Pursuant to the National Marine Sanctuaries Act and Solicitation for Applications for the Proposed Lake Erie National Marine Sanctuary Advisory Council

AGENCY: Office of National Marine Sanctuaries (ONMS), National Ocean Service (NOS), National Oceanic and Atmospheric Administration (NOAA), Department of Commerce (DOC).

ACTION: Notice of solicitation.

SUMMARY: Notice is hereby given that NOAA is establishing a national marine sanctuary advisory council (council) for the proposed Lake Erie National Marine Sanctuary. The council will provide advice and recommendations to ONMS regarding the sanctuary's designation. As a result, ONMS is adding the new council to the list of established national marine sanctuary advisory councils. ONMS solicits applications to fill council seats on an as needed basis and is seeking applicants for seats on the proposed Lake Erie National Marine Sanctuary Advisory Council. This notice contains web page links and contact information for the proposed Lake Erie National Marine Sanctuary and application materials to apply for the newly established advisory council.

DATES: Applications for membership on the proposed Lake Erie Sanctuary Advisory Council need to be received by Wednesday, August 28, 2024.

ADDRESSES: For further information contact: Ellen Brody, Great Lakes Regional Coordinator, NOAA Office of National Marine Sanctuaries, 4840 South State Rd., Ann Arbor, MI 48108, or call 734-741-2270, or email ellen.brody@noaa.gov.

SUPPLEMENTARY INFORMATION:

I. Background

Section 315 of the National Marine Sanctuaries Act (NMSA) (16 U.S.C. 1445a) authorizes the Secretary of Commerce to establish advisory councils to advise and make recommendations regarding the designation and management of national marine sanctuaries. NOAA is establishing a new sanctuary advisory council for the proposed national marine sanctuary in Lake Erie to serve as a liaison with the local community and provide guidance and advice to ONMS regarding the designation. The advisory council for the proposed sanctuary in Lake Erie was not established when ONMS published its annual announcement on May 24, 2024 that was advertising to fill vacant seats on the other 17 councils (89 FR 45854). Therefore, ONMS is adding the new advisory council to the list of sites with open vacancies and announcing that it is soliciting applications to fill the council's seats. Applications are due Wednesday, August 28, 2024.

In the following Supplementary Information section, NOAA provides details regarding ONMS, the role of advisory councils, and contact information for the Proposed Lake Erie National Marine Sanctuary.

II. Office of National Marine Sanctuaries (ONMS)

ONMS serves as the trustee for a network of underwater parks encompassing more than 620,000 square miles of marine and Great Lakes waters from Washington state to the Florida Keys, and from Lake Huron to American Samoa. The network includes a system of 16 national marine sanctuaries and the Papahānaumokuākea and Rose Atoll marine national monuments. National marine sanctuaries protect our nation's most vital coastal and marine natural and cultural resources, and through active research, management, and public engagement, sustain healthy environments that are the foundation for thriving communities and stable economies.

One of the many ways ONMS ensures public participation in the designation and management of national marine sanctuaries is through the formation of advisory councils. Advisory councils are community-based groups established to provide advice and recommendations to ONMS on issues including management, science, service, and stewardship, as well as to serve as liaisons between their constituents in the community and the site. Pursuant to Section 315(a) of the NMSA, advisory councils are exempt from the requirements of the Federal Advisory Committee Act. Additional information on ONMS and its advisory councils can be found at http://sanctuaries.noaa.gov.

III. Advisory Council Membership

Under section 315a(b) of the NMSA, advisory council members may be appointed from among: (1) Persons employed by federal or state agencies with expertise in natural resources management; (2) members of relevant regional fishery management councils; and (3) representatives of local user groups, conservation and other public interest organizations, scientific organizations, educational organizations, or others interested in the protection and multiple use management of sanctuary resources. 16 U.S.C. 1455a(b).

The charter for each advisory council defines the number and type of seats and positions on the council. The advisory council charter for the proposed national marine sanctuary in Lake Erie identifies the following initial, non-governmental voting seat types: citizen-at-large; commercial/charter fishing; divers, dive clubs, and archaeology; economic development; education (K-12); higher education; historically underserved populations; history/maritime heritage and public interpretation; maritime industry; outdoor recreation; recreational fishing; research, science and technology; and tourism and marketing. Initially, the council will also have non-voting seats for government agencies, youth, and federally-recognized Indigenous Nations and Tribes. Recognizing the cultural significance of this area to Indigenous Nations and Tribes, NOAA welcomes the participation of such interested Nations and Tribes on the council. This could involve multiple Nations and Tribes. Nations and Tribes interested in participating in the advisory council should contact the NOAA representative identified in the ADDRESSES section. Participation on the council does not take the place of government-to-government consultation nor does it serve as the only opportunity for engagement between NOAA and federally recognized Indigenous Nations and Tribes.

For each of the existing advisory councils, applicants are chosen based upon their particular expertise and experience in relation to the seat for which they are applying; community and professional affiliations; views regarding the protection and management of marine or Great Lakes resources; and possibly the length of residence in the area affected by the site. Council members and alternates for the proposed Lake Erie National Marine Sanctuary Advisory Council serve three-year terms or until a post-designation sanctuary advisory council is established, as reflected in the signed charter.

More information on advisory council membership and processes, and materials related to the purpose, policies, and operational requirements for advisory councils can be found in the charter for a particular advisory council (http://sanctuaries.noaa.gov/management/ac/council_charters.html) and the National Marine Sanctuary Advisory Council Implementation Handbook (http://sanctuaries.noaa.gov/management/ac/acref.html). For more information about the new advisory council for the proposed national marine sanctuary in Lake Erie, including seat descriptions and application materials, please visit https://sanctuaries.noaa.gov/lake-erie/.

Privacy Act Statement

Authority. The collection of information concerning the solicitation for applications for sanctuary advisory councils is authorized under the National Marine Sanctuaries Act, 16 U.S.C. 1445a, and Executive Order 13178, and in accordance with the Privacy Act of 1974, as amended, 5 U.S.C. 552a.

Purposes. The collection of names, contact information, professional information, qualifications, and answers to the application questions is required in order for the Office of National Marine Sanctuaries to evaluate and appoint members to the sanctuary advisory councils. The information collected will be reviewed by NOAA employees, and may also be reviewed by current sanctuary advisory council members as part of the evaluation process.

Routine Uses. NOAA will use the application information for the purposes set forth above. The Privacy Act authorizes disclosure of the collected information for the following purposes: to NOAA staff for work-related purposes; for other purposes as set forth in the Privacy Act; and for routine uses published in one or more of the following Privacy Act System of Records Notices, as applicable: COMMERCE/DEPT-11, Candidates for Membership, Members, and Former Members of Department of Commerce Advisory Committees, available at https://www.commerce.gov/opog/privacy/SORN/SORN-DEPT-11; COMMERCE/DEPT-18, Employees Personnel Files Not Covered by Notices of Other Agencies, available at https://www.commerce.gov/opog/privacy/SORN/SORN-DEPT-18; and OPM/GOVT-1, General Personnel Records, available at https://www.opm.gov/information-management/privacy-policy/sorn/opm-sorn-govt-1-general-personnel-records.pdf, which cover certain records regarding Federal employees and may also cover records of individuals who are not Federal employees who, through their service on a sanctuary advisory council, may be considered as volunteers providing gratuitous services to the agency without compensation; and, for individuals who are also members of a Regional Fishery Management Council, COMMERCE/NOAA-13, Personnel, Payroll, Travel, and Attendance Records of the Regional Fishery Management Councils.

Effects of Not Providing Information. Providing the application information is voluntary; however, if the information is not provided, the individual will not be considered for appointment as a member of a sanctuary advisory council.

Consent. By submitting an application to the Office of National Marine Sanctuaries for appointment to a sanctuary advisory council, you are consenting to the use and disclosure of the information for the purposes and routine uses described above. However, if you prefer that your application be reviewed by NOAA employees only and not disclosed to current council members as part of the evaluation process, please contact the sanctuary advisory council coordinator to request internal review only, which will not result in any disadvantage or impact regarding your candidacy, or for any questions regarding this Privacy Act Statement.

Paperwork Reduction Act

ONMS has a valid Office of Management and Budget (OMB) control number (0648-0397) for the collection of public information related to the processing of ONMS national marine sanctuary advisory council applications across the National Marine Sanctuary System. Establishing a sanctuary advisory council for the proposed sanctuary in Lake Erie fits within the estimated reporting burden under that control number. See https://www.reginfo.gov/public/do/PRASearch (Enter Control Number 0648-0397). Therefore, ONMS will not request an update to the reporting burden certified for OMB control number 0648-0397.

Send comments regarding this burden estimate, or any other aspect of this data collection, including suggestions for reducing the burden, to: Office of National Marine Sanctuaries, 1305 East West Highway, N/NMS, Silver Spring, Maryland 20910.

Notwithstanding any other provisions of the law, no person is required to respond to, nor shall any person be subject to a penalty for failure to comply with a collection of information subject to the requirements of the Paperwork Reduction Act, 44 U.S.C. 3501 et seq., unless that collection of information displays a currently valid OMB control number. The OMB control number is #0648-0397.

Authority: 16 U.S.C. 1431 et seq.

John Armor,
Director, Office of National Marine Sanctuaries, National Ocean Service, National Oceanic and Atmospheric Administration.

[FR Doc. 2024-14569 Filed 7-9-24; 8:45 am]

BILLING CODE 3510-NK-P